ENVIRONMENTAL PROTECTION AGENCY

40 CFR Part 52

[EPA-R09-OAR-2023-0603; FRL-11596-01-R9]

Air Plan Revisions; Arizona; Maricopa County Air Quality Department

AGENCY: Environmental Protection Agency (EPA).

ACTION: Proposed rule.

SUMMARY: The Environmental Protection Agency (EPA) is proposing to approve revisions to the Maricopa County Air Quality Department (MCAQD or “County”) portion of the Arizona State Implementation Plan (SIP). These revisions concern emissions of volatile organic compounds (VOC) from storage, transfer, or loading of organic liquids and gasoline. We are proposing to approve local rules to regulate these emission sources under the Clean Air Act (CAA or “Act”). We are also proposing to approve the MCAQD's reasonably available control technology (RACT) demonstration associated with these rules for the 2008 8-hour ozone national ambient air quality standards (NAAQS) in the Phoenix-Mesa ozone nonattainment area. We are taking comments on this proposal and plan to follow with a final action.

DATES: Comments must be received on or before September 18, 2024.

ADDRESSES: Submit your comments, identified by Docket ID No. EPA-R09-OAR-2023-0603 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Mae Wang, EPA Region IX, 75 Hawthorne St., San Francisco, CA 94105; phone: (415) 947-4137; email: wang.mae@epa.gov.

SUPPLEMENTARY INFORMATION: Throughout this document, “we,” “us” and “our” refer to the EPA.

Table of Contents

I. The State's Submittal

A. What rules did the State submit?

B. Are there other versions of these rules?

C. What is the purpose of the submitted rule revisions?

II. The EPA's Evaluation and Action

A. How is the EPA evaluating the rules?

B. Do the rules meet the evaluation criteria?

C. The EPA's Recommendations To Further Improve the Rules

D. Public Comment and Proposed Action

III. Incorporation by Reference

IV. Statutory and Executive Order Reviews

I. The State's Submittal

A. What rules did the State submit?

Table 1 lists the rules addressed by this proposal with the dates that they were adopted by the MCAQD and submitted to the EPA by the Arizona Department of Environmental Quality (ADEQ or “State”).

Table 1—Submitted Rules
Local agency | Rule # | Rule title | Revised | Submitted
MCAQD | 350 | Storage and Transfer of Organic Liquids (Non-Gasoline) at an Organic Liquid Distribution (OLD) Facility | 11/18/2020 | 12/03/2020
MCAQD | 351 | Storage and Loading of Gasoline at Bulk Gasoline Plants and at Bulk Gasoline Terminals | 11/18/2020 | 12/03/2020

On June 3, 2021, the SIP submittal containing the documents listed in Table 1 was deemed complete by operation of law.

B. Are there other versions of these rules?

We conditionally approved earlier versions of Rule 350 and Rule 351 into the SIP on February 26, 2020 (85 FR 10986). In order to fulfill the commitment the MCAQD made as part of our prior conditional approval, the MCAQD adopted revisions to the SIP-approved versions on November 18, 2020, and ADEQ submitted them to the EPA on December 3, 2020. The February 26, 2020 conditional approval, and an explanation of how the SIP submittal proposed for approval here addresses the deficiencies identified in the conditional approval, are discussed in more detail below. If we finalize this proposal to approve the November 18, 2020 versions of these rules, then these versions will replace the previously approved versions of these rules in the SIP.

C. What is the purpose of the submitted rule revisions?

Emissions of VOC contribute to the formation of ground-level ozone, which harms human health and the environment. Section 110(a) of the CAA requires States to submit plans that provide for implementation, maintenance, and enforcement of the NAAQS. In addition, CAA section 182(b)(2) requires that SIPs for ozone nonattainment areas classified as “Moderate” or higher implement RACT for sources covered by a control techniques guidelines (CTG) document. The MCAQD regulates a portion of the Phoenix-Mesa area designated as nonattainment for ozone and classified as Moderate nonattainment for the 2008 ozone NAAQS.¹ Therefore, the MCAQD is required to submit SIP revisions that implement RACT-level controls for all sources covered by a CTG. The MCAQD submitted Rule 350 and Rule 351 to establish RACT-level controls for VOC emissions from sources covered by the petroleum liquid and gasoline storage and transfer CTGs. Rule 350 limits VOC emissions from organic liquid storage tanks and VOC emissions during transfer operations at organic liquid distribution facilities. Rule 351 limits VOC emissions from storage and loading of gasoline at bulk gasoline plants and bulk gasoline terminals. The associated CTGs are shown in Table 2.

¹ On November 12, 2019 (84 FR 60920), the EPA issued a determination that the Phoenix-Mesa ozone nonattainment area attained the 2008 ozone NAAQS by the Moderate area attainment date of July 20, 2018. That determination did not constitute a redesignation of the area to attainment for the 2008 ozone standard. The designation status of the Phoenix-Mesa area will remain Moderate nonattainment for the 2008 ozone NAAQS until such time as the EPA determines that the area meets Clean Air Act requirements for redesignation to attainment.

Table 2—Rules and Associated CTGs
MCAQMD rule | Associated CTGs
Rule 350 | Control of Volatile Organic Emissions from Storage of Petroleum Liquids in Fixed-Roof Tanks (EPA-450/2-77-036).
| Control of Volatile Organic Emissions from Petroleum Liquid Storage in External Floating Roof Tanks (EPA-450/2-78-047).
Rule 351 | Control of Volatile Organic Emissions from Storage of Petroleum Liquids in Fixed-Roof Tanks (EPA-450/2-77-036).
| Control of Volatile Organic Emissions from Petroleum Liquid Storage in External Floating Roof Tanks (EPA-450/2-78-047).
| Control of Hydrocarbons from Tank Truck Gasoline Loading Terminals (EPA-450/2-77-026).
| Control of Volatile Organic Emissions from Bulk Gasoline Plants (EPA-450/2-77-035).

Section III.D of the preamble to the EPA's final rule to implement the 2008 8-hour ozone NAAQS (80 FR 12264, March 6, 2015) discusses RACT requirements. It states in part that RACT SIPs must contain adopted RACT regulations, certifications where appropriate that existing provisions are RACT, and/or negative declarations that there are no sources in the nonattainment areas subject to a specific CTG. The County's RACT SIP provides MCAQD's analysis of its compliance with the CAA section 182 RACT requirements for the 2008 8-hour ozone NAAQS. On February 26, 2020, the EPA conditionally approved MCAQD Rule 350, Rule 351, and the County's RACT demonstration for the CTGs associated with these rules, into the Arizona SIP. The rules contained deficiencies that precluded full SIP approval and were conditionally approved based on a commitment by the MCAQD and the ADEQ to provide, within one year, a SIP submission that would address those deficiencies. The MCAQD subsequently revised these rules to address the identified deficiencies and the ADEQ submitted the revised rules on December 3, 2020. The EPA's technical support document (TSD) has more information about these rules.

II. The EPA's Evaluation and Action

A. How is the EPA evaluating the rules?

Rules in the SIP must be enforceable (see CAA section 110(a)(2)) and must not interfere with applicable requirements concerning attainment and reasonable further progress or other CAA requirements (see CAA section 110(l)). In addition, because this rule was submitted to satisfy the RACT requirement for sources covered by the CTGs listed in table 2, these rules must establish RACT level controls for such sources.

Guidance and policy documents that the EPA used to evaluate enforceability, revision/relaxation, and rule stringency requirements for the applicable criteria pollutants include the following:

1. “State Implementation Plans; General Preamble for the Implementation of Title I of the Clean Air Act Amendments of 1990,” 57 FR 13498 (April 16, 1992); 57 FR 18070 (April 28, 1992).

2. “Issues Relating to VOC Regulation Cutpoints, Deficiencies, and Deviations,” EPA, May 25, 1988 (the Bluebook, revised January 11, 1990).

3. “Guidance Document for Correcting Common VOC & Other Rule Deficiencies,” EPA Region 9, August 21, 2001 (the Little Bluebook).

4. “Control of Volatile Organic Emissions from Storage of Petroleum Liquids in Fixed-Roof Tanks,” EPA-450/2-77-036, December 1977.

5. “Control of Volatile Organic Emissions from Petroleum Liquid Storage in External Floating Roof Tanks,” EPA-450/2-78-047, December 1978.

6. “Control of Volatile Organic Emissions from Bulk Gasoline Plants,” EPA-450/2-77-035, December 1977.

7. “Control of Hydrocarbons from Tank Truck Gasoline Loading Terminals,” EPA-450/2-77-026, October 1977.

B. Do the rules meet the evaluation criteria?

As summarized below, the EPA is proposing to conclude that these revised rules have corrected the deficiencies previously identified in the earlier versions of the rules that were conditionally approved into the SIP. Our February 26, 2020 conditional approval action found that these rules met all relevant CAA requirements except for the identified deficiencies. Because those deficiencies have been corrected, we are proposing to find that the revised rules are consistent with relevant requirements regarding enforceability, RACT, and SIP revisions. The submitted rules satisfy the CAA section 182 RACT requirements for the 2008 8-hour ozone NAAQS for the Phoenix-Mesa ozone nonattainment area with regard to the CTGs listed in table 2 of this document. The TSD has more information on our evaluation, including descriptions of the individual deficiencies and the way that each was addressed in the current submitted version of the rules.

1. Deficiencies Previously Identified in MCAQD Rule 350

Section 103 of Rule 350 exempted fuel consumed or dispensed at the facility directly to users, hazardous waste, and wastewater and ballast water from organic liquid storage and transfer requirements. These exemptions were not previously in the SIP and were a potential CAA section 110(l) relaxation as the County had not demonstrated the exemptions were necessary or that the exemptions would not interfere with attainment, reasonable further progress, or other requirements of the Act. The County corrected this deficiency by removing the exemptions.

Similarly, Rule 350 was missing an emissions limit that was previously in the SIP for organic liquid distribution facilities transferring over 600,000 gallons per month of organic liquid. The County addressed this potential CAA section 110(l) relaxation by adding the prior SIP limit to Rule 350, section 305.4.

Section 103.2(g)(2) of Rule 350 allowed the Control Officer to approve alternate procedures or requirements for opening vapor containment equipment while performing operations without clearly specifying what criteria the Control Officer would use to approve such alternate procedures. The County addressed this potentially inappropriate use of director's discretion by deleting the language referring to Control Officer approval.

Sections 301.1, 301.2. 301.3, and 301.4 of Rule 350 did not state a particular prohibition and the phrasing made the requirements unclear. The County restructured and rephrased the rule language to clarify the requirements for organic liquid storage tanks. The new language appears in Rule 350, section 303.

Section 103.2(e) of Rule 350 seemed to contain a limited exemption for floating roofs whenever the tank is being filled, instead of only during filling after the tank has been emptied completely. The County revised the language so the exemption applies only when the tank is drained completely and subsequently refilled.

Section 302.1(b) of Rule 350 was not clear regarding which external floating roof tanks are exempt from the rule's requirements and seemed to provide tanks with shoe-mounted secondary seals a broad exemption from all the rule's requirements. The County corrected this deficiency by removing the exemption.

Section 302.2(c)(1) of Rule 350 did not clearly specify vapor control requirements for internal floating roof tanks. The County revised the language to provide compliance with 40 CFR part 60, subpart Kb as one compliance option.

Section 103.2(g)(1) of Rule 350 contained an overly broad provision that is inconsistent with the CTG for bulk plants and could result in an open hatch during an entire loading event, leading to VOC emissions release. The County revised the rule language to clarify that the conditions under which a hatch, vent valve, or vapor sealing device may be open during transfer are limited to those necessary to avoid unsafe operating conditions.

2. Deficiencies Previously Identified in MCAQD Rule 351

Section 103.5(e)(2) of Rule 351 allowed the Control Officer to approve alternate procedures or requirements for opening vapor containment equipment while performing operations without clearly specifying what criteria the Control Officer would use to approve such alternate procedures. The County addressed this potentially inappropriate use of director's discretion by deleting the language referring to Control Officer approval.

Sections 302.2, 302.3. and 304.4 of Rule 351 did not state a particular prohibition and the phrasing made the requirements unclear. The County restructured and rephrased the rule language to clarify the requirements for gasoline storage tanks. The new language appears in Rule 351, section 303.

Section 103.4(b) of Rule 351 seemed to contain a limited exemption for floating roofs whenever the tank is being filled, instead of only during filling after the tank has been emptied completely. The County revised the language so the exemption applies only when the tank is drained completely and subsequently refilled.

Section 303.1(b) of Rule 351 was not clear regarding which external floating roof tanks are exempt from the rule's requirements and seemed to provide tanks with shoe-mounted secondary seals a broad exemption from all the rule's requirements. The County corrected this deficiency by removing the exemption.

Section 103.5(e)(1) of Rule 351 contained an overly broad provision that is inconsistent with the CTG for bulk plants and could result in an open hatch during an entire loading event, leading to VOC emissions release. The County revised the rule language to clarify that the conditions under which a hatch, vent valve, or vapor sealing device may be open during transfer are limited to those necessary to avoid unsafe operating conditions.

The “vapor loss control system” included as a compliance option in Rule 351, section 303.4, was not as stringent as the vapor collection/processing system (VCPS) control option included in the SIP-approved rule. The County added the term “vapor collection/processing system” back into Rule 351 and included an emission reduction efficiency requirement as stringent as the requirement in the previous SIP-approved rule in the term's definition and in section 304.3.

Rule 351 lacked an emissions limit or vapor recovery efficiency requirement that had been demonstrated to meet RACT stringency requirements for gasoline bulk plant transfers. The County added a requirement in Rule 351, section 304.2 to require an emission limit of 0.6 lbs VOC/1000 gallons or a vapor recovery efficiency of at least 90%, comparable to other current local rules.

Section 103.1 of Rule 351 exempted the loading of aviation gasoline at airports from the rule's gasoline transfer requirements. The County had not demonstrated the exemption was necessary or that the exemption would not interfere with reasonable further progress, or other requirements of the Act. The County corrected this deficiency by removing the exemption.

C. The EPA's Recommendations To Further Improve the Rules

The TSD includes recommendations for the next time the MCAQD modifies these rules.

D. Public Comment and Proposed Action

As authorized in section 110(k)(3) of the Act, the EPA proposes to approve the submitted rules because they fulfill all relevant requirements. We are also proposing to approve the MCAQD's RACT demonstration for the 2008 8-hour ozone NAAQS with regard to the sources covered by the CTGs associated with these rules (as listed in table 2). This approval, if finalized, would mean that the State has fulfilled its commitment under the terms of the conditional approval to submit a revised approvable SIP submission, and the finalized approval would replace our February 26, 2020 conditional approval with respect to these rules and associated CTG RACT categories. If we finalize this approval, we would also remove the text associated with the conditional approval from 40 CFR 52.119(c)(1). We will accept comments from the public on this proposal until September 18, 2024. If we take final action to approve the submitted rules, our final action will incorporate these rules into the federally enforceable SIP.

III. Incorporation by Reference

In this rule, the EPA is proposing to include in a final EPA rule regulatory text that includes incorporation by reference. In accordance with requirements of 1 CFR 51.5, the EPA is proposing to incorporate by reference MCAQD Rule 350, “Storage and Transfer of Organic Liquids (Non-Gasoline) at an Organic Liquid Distribution (OLD) Facility,” revised on November 18, 2020, which regulates VOC emissions from organic liquid storage and transfer operations at organic liquid distribution facilities. The EPA is also proposing to incorporate by reference MCAQD Rule 351, “Storage and Loading of Gasoline at Bulk Gasoline Plants and at Bulk Gasoline Terminals,” revised on November 18, 2020, which regulates VOC emissions from gasoline storage and loading activities at bulk gasoline plants and terminals. The EPA has made, and will continue to make, these materials available through https://www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this proposed action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. The EPA did not perform an EJ analysis and did not consider EJ in this action. Consideration of EJ is not required as part of this action, and there is no information in the record inconsistent with the stated goal of E.O. 12898 of achieving EJ for people of color, low-income populations, and Indigenous peoples.

List of Subjects in 40 CFR Part 52

Environmental protection, Air pollution control, Incorporation by reference, Intergovernmental relations, Ozone, Reporting and recordkeeping requirements, Volatile organic compounds.

Dated: August 13, 2024.
Martha Guzman Aceves,
Regional Administrator, Region IX.

[FR Doc. 2024-18458 Filed 8-16-24; 8:45 am]

BILLING CODE 6560-50-P